DEPARTMENT OF ENERGY

Federal Energy Regulatory Commission

Combined Notice of Filings #1

November 30, 2006.

Take notice that the Commission received the following electric corporate filings:

Docket Numbers: EC07-26-000.

Applicants: Evergreen Wind Power, LLC.

Description: Evergreen Wind Power, LLC submits an application for authorization of transaction under Section 203 of the Federal Power Act.

Filed Date: 11/22/2006.

Accession Number: 20061130-0121.

Comment Date: 5 p.m. Eastern Time on Wednesday, December 13, 2006.

Docket Numbers: EC07-27-000.

Applicants: Cinergy Capital & Trading, Inc.; Caledonia Power I, LLC; Wood Group Power Solutions, Inc.

Description: Cinergy Capital & Trading, Inc et al. submit an application for authorization for disposition of jurisdictional assets pursuant to section 203 of the FPA.

Filed Date: 11/24/2006.

Accession Number: 20061130-0126.

Comment Date: 5 p.m. Eastern Time on Friday, December 15, 2006.

Docket Numbers: EC07-28-000.

Applicants: Cleco Midstream Resources LLC; Attala Transmission LLC; Perryville Energy Holdings LLC; Perryville Energy Partners, L.L.C.; Cleco Corporation.

Description: Cleco Midstream Resources LLC, Attala Transmission LLC, Perryville Energy Holding LLC et al. submits an application for authorization for internal corporate reorganization.

Filed Date: 11/27/2006.

Accession Number: 20061130-0083.

Comment Date: 5 p.m. Eastern Time on Monday, December 18, 2006.

Docket Numbers: EC07-29-000.

Applicants: PPM Energy, Inc.; PPM Wind Energy LLC; Aeolus Wind Power III LLC; Big Horn Wind Project LLC; Twin Buttes Wind LLC; Atlantic Renewable Projects II, LLC; Flat Rock Windpower II LLC.

Description: PPM Energy, Inc, PPM Wind Energy, LLC et al. submit a joint application for authorization to dispose of jurisdictional facilities, pursuant to section 203 of the FPA.

Filed Date: 11/27/2006.

Accession Number: 20061130-0123.

Comment Date: 5 p.m. Eastern Time on Monday, December 18, 2006.

Take notice that the Commission received the following exempt wholesale generator filings:

Docket Numbers: EG07-16-000.

Applicants: Telocaset Wind Power Partners, LLC.

Description: Telocaset Wind Power Partners, LLC submits a notice of Self-Certification of Exempt Wholesale Generator Status located in Union County, Oregon.

Filed Date: 11/28/2006.

Accession Number: 20061128-5012.

Comment Date: 5 p.m. Eastern Time on Tuesday, December 19, 2006.

Take notice that the Commission received the following electric rate filings:

Docket Numbers: ER07-249-000.

Applicants: Red Shield Environmental, L.L.C.

Description: Red Shield Environmental LLC submits a request for expedited consideration and temporary waiver of Definition of Settlement Only Resource Under Market Rule I et al.

Filed Date: 11/27/2006.

Accession Number: 20061130-0084.

Comment Date: 5 p.m. Eastern Time on Thursday, December 7, 2006.

Any person desiring to intervene or to protest in any of the above proceedings must file in accordance with Rules 211 and 214 of the Commission's Rules of Practice and Procedure (18 CFR § 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-20828 Filed 12-7-06; 8:45 am]

BILLING CODE 6717-01-P